DEPARTMENT OF COMMERCE

International Trade Administration

[C-533-868]

Welded Stainless Pressure Pipe From India: Final Results of the Expedited First Sunset Review of the Countervailing Duty Order

AGENCY: Enforcement and Compliance, International Trade Administration, Department of Commerce.

SUMMARY: As a result of this expedited sunset review, the Department of Commerce (Commerce) finds that revocation of the countervailing duty (CVD) order on welded stainless pressure pipe (WSPP) from India would be likely to lead to continuation or recurrence of countervailable subsidies at the levels as indicated in the “Final Results of Sunset Review” section of this notice.

DATES: Applicable February 1, 2022.

FOR FURTHER INFORMATION CONTACT: Jolanta Lawska, AD/CVD Operations, Office II, Enforcement and Compliance, International Trade Administration, U.S. Department of Commerce, 1401 Constitution Avenue NW, Washington, DC 20230; telephone: (202) 482-8362.

SUPPLEMENTARY INFORMATION:

Background

On November 17, 2016, Commerce published the CVD order on WSPP from India in the Federal Register.¹ On October 1, 2021, Commerce published the notice of initiation of the first five-year (sunset) review of the Order, pursuant to section 751(c) of the Tariff Act of 1930, as amended (the Act).² On October 15, 2021, Commerce received a notice of intent to participate from Bristol Metals, LLC, Felker Brothers Corporation, and Primus Pipe & Tube, Inc. (collectively, domestic interested parties) within the deadline specified in 19 CFR 351.218(d)(1)(i).³ The domestic interested parties claimed interested party status under section 771(9)(C) of the Act as domestic producers of WSPP.⁴ On October 29, 2021, Commerce received a substantive response from the domestic interested parties within the 30-day deadline specified in 19 CFR 351.218(d)(3)(i).⁵ Commerce did not receive a substantive response from any respondent interested parties.

¹ See Welded Stainless Pressure Pipe from India: Antidumping Duty and Countervailing Duty Orders, 81 FR 81062 (November 17, 2016) (Order).

² See Initiation of Five-Year (Sunset) Reviews, 86 FR 54423 (October 1, 2021).

³ See Domestic Interested Parties' Letter, “Notice of Intent to Participate in the First Five-Year Review of the Countervailing Duty Order on Welded Stainless Pressure Pipe from India,” dated October 15, 2021.

⁴ Id.

⁵ See Domestic Interested Parties' Letter, “First Five-Year (`Sunset') Review of Countervailing Order on Welded Stainless Steel Pressure Pipe from India: Domestic Producers' Substantive Response to Notice of Initiation,” dated October 29, 2021.

On November 30, 2021, Commerce notified the U.S. International Trade Commission that it did not receive an adequate substantive response from respondent interested parties.⁶ Accordingly, pursuant to section 751(c)(3)(B) of the Act and 19 CFR 351.218(e)(1)(ii)(C)(2), Commerce conducted an expedited (120-day) sunset review of the Order.

⁶ See Commerce's Letter, “Sunset Reviews Initiated on October 1, 2021,” dated November 30, 2021.

Scope of the Order

The merchandise covered by the Order is welded stainless pressure pipe from India. For a full description of the scope, see the Issues and Decision Memorandum.⁷

⁷ See Memorandum, “Issues and Decision Memorandum for the Final Results of Expedited First Sunset Review of the Countervailing Duty Order on Welded Stainless Pressure Pipe from India,” dated concurrently with, and hereby adopted by, this notice (Issues and Decision Memorandum).

Analysis of Comments Received

All issues raised in this sunset review are addressed in the accompanying Issues and Decision Memorandum, which is hereby adopted by this notice. The Issues and Decision Memorandum is a public document and is on file electronically via Enforcement and Compliance's Antidumping and Countervailing Duty Centralized Electronic Services System (ACCESS). ACCESS is available to registered users at http://access.trade.gov. In addition, a complete version of the Issues and Decision Memorandum can be accessed directly at https://access.trade.gov/public/FRNotices/ListLayout.aspx. A list of the issues discussed in the Issues and Decision Memorandum is attached as an appendix to this notice.

Final Results of Sunset Review

Pursuant to sections 751(c)(1) and 752(b) of the Act, Commerce determines that revocation of the Order would be likely to lead to continuation or recurrence of countervailable subsidies at the following net countervailable subsidy rates:

Producer/exporter | Net countervailable subsidy rate (percent)
Steamline Industries Limited (Steamline) | 3.13
Sunrise Stainless Private Limited/Sun Mark Stainless Pvt. Ltd./Shah Foils Ltd. (Sunrise Companies) ⁸ | 6.22
All Others | 4.65

Administrative Protective Order

⁸ Commerce determined that Sunrise Stainless Private Limited, Sun Mark Stainless Pvt. Ltd., and Shah Foils Ltd. are entitled to the same subsidy rate. See Order, 81 FR at 81064.

This notice serves as the only reminder to parties subject to an administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results in accordance with sections 751(c), 752(b), and 777(i)(1) of the Act, and 19 CFR 351.218.

Dated: January 26, 2022.
Lisa W. Wang,
Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Review

VIII. Recommendation

[FR Doc. 2022-01956 Filed 1-31-22; 8:45 am]

BILLING CODE 3510-DS-P